DEPARTMENT OF THE INTERIOR

Fish and Wildlife Service

[FWS-R1-FHC-2008-N00133; 81331-1334-8TWG-W4]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). This notice announces a TAMWG meeting, which is open to the public.

DATES: TAMWG will meet from 1 p.m. to 5 p.m. on Monday, June 9, 2008 and from 8:30 to 1 on Tuesday, June 10, 2008.

ADDRESSES: The meeting will be held at the Weaverville Victorian Inn, 1709 Main St., 299 West, Weaverville, CA 96093.

FOR FURTHER INFORMATION CONTACT: Randy A. Brown of the U.S. Fish and Wildlife Service, 1655 Heindon Road, Arcata, CA 95521; telephone: (707) 822-7201. Randy A. Brown is the TAMWG Designated Federal Officer. For background information and questions regarding the Trinity River Restoration Program (TRRP), please contact Douglas Schleusner, Executive Director, Trinity River Restoration Program, P.O. Box 1300, 1313 South Main Street, Weaverville, CA 96093; telephone: (530) 623-1800; E-mail: dschleusner@mp.usbr.gov

SUPPLEMENTARY INFORMATION: Under section 10(a)(2) of the Federal Advisory Committee Act (5 U.S.C. App.), this notice announces a meeting of the (TAMWG).

Primary objectives of the meeting will include discussion of the following topics:

• Reservoir operations, minimum pool criteria, and carryover storage policies,

• Steelhead population trends and Trinity River Hatchery steelhead production,

• TRRP decision making/CDR situation assessment,

• Updates on TRRP budget, flow schedule, monitoring activities, and

• TAMWG membership appointments.

Completion of the agenda is dependent on the amount of time each item takes. The meeting could end early if the agenda has been completed.

Dated: May 13, 2008.
Joseph Polos,
Supervisory Fishery Biologist, Arcata Fish and Wildlife Office, Arcata, CA.

[FR Doc. E8-11837 Filed 5-27-08; 8:45 am]

BILLING CODE 4310-55-P